DEPARTMENT OF AGRICULTURE

Agricultural Marketing Service

[Docket Number: AMS-ST-07-0149; ST08-01]

Request for an Extension and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of and revision to the currently approved information collection for Recordkeeping Requirements for Certified Applicators of Federally Restricted Use Pesticides (7 CFR part 110).

DATES: Comments received by February 12, 2008 will be considered.

Additional Information or Comments: Contact Bonnie Poli, Pesticide Records Branch, Science and Technology, Agricultural Marketing Service, Suite 203, 8609 Sudley Road, Manassas, Virginia 20110-4582, Telephone (703) 330-7826, Fax (703) 330-6110.

SUPPLEMENTARY INFORMATION: Title: Recordkeeping Requirements for Certified Applicators of Federally Restricted Use Pesticides (7 CFR part 110)

OMB Number: 0581-0164.

Expiration Date of Approval: May 30, 2008.

Type of Request: Extension and revision of a currently approved information collection.

Abstract: Section 1491 of the Food, Agriculture, Conservation, and Trade Act of 1990, (Pub. L. 101-624; 7 U.S.C. 136i-1) (Act), directs and authorizes the Secretary of Agriculture to require that certified pesticide applicators maintain records of applications of federally restricted use pesticides for a period of two years.

The Act also (1) requires that the pesticide records be made available to Federal or State officials, and to licensed health care professionals who need the records in order to treat an individual who may have been exposed to restricted use pesticides; (2) requires that the Secretary of Agriculture enforce the recordkeeping and access requirements of the Act and promulgate regulations to administer the Act; and (3) establishes civil penalties for violations of the Act. A certified applicator is an individual who is certified by the Environmental Protection Agency (EPA) or a State under cooperative agreement with EPA to use or supervise the use of restricted use pesticides.

The Secretary of Agriculture delegated his responsibilities under the Act to the Agricultural Marketing Service (AMS), which promulgated regulations to administer the Act at 7 CFR part 110 (regulations). In order to enforce these regulations, AMS must collect information through personal inspections of the application records of certified applicators of restricted use pesticides.

The information collected by AMS is used only by authorized representatives of AMS (AMS' Science and Technology national staff, other designated Federal employees and designated State supervisors and their staffs) who are delegated authority to access the records pursuant to subsection (b) of the Act. The collected information is used to administer the Federal Pesticide Recordkeeping program. AMS is the primary user of this information. The secondary user of the information is each designated State agency which has a cooperative agreement with AMS.

Estimate of Burden: Public reporting burden for this collection of information is estimated as follows:

(a) Approximately 307,151 certified private applicators (recordkeepers) apply restricted use pesticides. It is estimated that certified private applicators average 1.31 hours per recordkeeper for a total of 402,368 annual burden hours. This is a 247,708 increase in burden hours from the previous collection request due to an increase in the number of restricted use pesticide applications being made by certified private applicators. The new data indicates that certified private applicators make an average of 16 restricted use pesticide applications per year. Of the 307,151 certified private applicators, approximately 3,600 are selected annually for recordkeeping inspections. It is estimated that a private applicator that is subject to a pesticide record inspection has an annual burden of .330 hours, which contributes to a total annual burden of 1,195 hours.

(b) There are approximately 281,428 certified commercial applicators nationally who are required to provide copies of restricted use pesticide application records to their clients. It is estimated that certified commercial applicators have a total annual burden of 1,386,877 hours.

(c) It is estimated that State agency personnel who work through cooperative agreements with AMS to inspect certified private applicator's records have a total annual burden of 7,274 hours. This is a decrease of 1,702 burden hours from the previous collection request due to fewer states participating in cooperative agreements with AMS.

Respondents: Certified private and commercial applicators, State governments or employees, and Federal agencies or employees.

Estimated Number of Respondents: 592,233—The total number of respondents includes certified commercial applicators, certified private applicators (recordkeepers) and designated State agency personnel utilized to inspect certified private applicator's records.

Estimated Number of Responses per Respondent: The estimated number of responses per respondent is as follows:

(a) It is estimated that certified private applicators (recordkeepers), record on an average 16 restricted use pesticide application records annually.

(b) It is estimated that certified commercial applicators provide 616 copies of restricted use pesticide records to their clients annually.

(c) State agency personnel, who work under cooperative agreements with AMS to conduct restricted use pesticide records inspections, have approximately 3,591 responses annually.

Estimated Total Annual Burden on Respondents: 1,797,714. This revision in the Total Annual Burden on Respondents increases the current burden by 116,917 hours due to the increase in the number of restricted use pesticides applications that the private applicators are making annually. Although there are fewer states participating in the cooperative program, the total annual burden did increase.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments should be sent to Bonnie Poli, Pesticide Records Branch, Science and Technology, Agricultural Marketing Service, Suite 203, 8609 Sudley Road, Manassas, Virginia 20110-4582. All comments received will be available for public inspection during regular business hours at the same address.

All responses to this notice will be summarized and included in the request for OMB approval. All comments will become a matter of public record.

Dated: December 10, 2007.
Lloyd C. Day,
Administrator, Agricultural Marketing Service.

[FR Doc. E7-24202 Filed 12-13-07; 8:45 am]

BILLING CODE 3410-02-P